DEPARTMENT OF DEFENSE

Office of the Secretary

Reserve Forces Policy Board (RFPB) Member Solicitation

AGENCY: Office of the Secretary, DoD.

ACTION: Notice of Advisory Committee Member Solicitation.

SUMMARY: Pursuant to the Federal Advisory Committee Act of 1972 (5 U.S.C., Appendix, as amended), the Sunshine in the Government Act of 1976 (5 U.S.C. 552b, as amended), and 41 CFR 102-3.150, the Department of Defense announces the following Federal advisory committee member solicitation:

Name of Committee: Reserve Forces Policy Board (RFPB).

Background: Secretary of Defense, George C. Marshall, abolished the Civilian Components Policy Board in June, 1951 and created the Reserve Forces Policy Board. The Congress and President Harry S. Truman codified this decision in the Armed Forces Reserve Act of July 1952. The Reserve Forces Policy Board, thus created, has remained essentially the same in its mission and responsibility for nearly sixty years. There is in the Office of the Secretary of Defense a Reserve Forces Policy Board.

Changes to Functions: Ike Skelton National Defense Authorization Act for Fiscal Year 2011. SEC. 514. Revision of Structure and Functions of the Reserve Forces Policy Board.

10 USCS § 10301. Reserve Forces Policy Board

“(b) Functions.—The Board shall serve as an independent adviser to the Secretary of Defense to provide advice and recommendations to the Secretary on strategies, policies, and practices designed to improve and enhance the capabilities, efficiency, and effectiveness of the reserve components.

“(c) Membership.—The Board consists of 20 members, appointed or designated as follows:

“(6) Ten persons appointed or designated by the Secretary of Defense, each of whom shall be a United States citizen having significant knowledge of and experience in policy matters relevant to national security and reserve component matters and shall be one of the following:

“(A) An individual not employed in any Federal or State department or agency.

“(B) An individual employed by a Federal or State department or agency.

“(C) An officer of a regular component of the armed forces on active duty, or an officer of a reserve component of the armed forces in an active status, who—

“(i) is serving or has served in a senior position on the Joint Staff, the headquarters staff of a combatant command, or the headquarters staff of an armed force; and “(ii) has experience in joint professional military education, joint qualification, and joint operations matters.

The Federal Advisory Committee Act (FACA), as amended (5 U.S.C. App.) and the FACA Implementing Regulations (FACA Regulations)(41 CFR 101-6 and 102-3) provide the basis for and guidance concerning the management and operation of Federal advisory committees. Typically, groups subject to FACA require open, pre-announced meetings; public access to discussions, deliberations, records and documents; opportunity for the public to provide, at a minimum, written comments; fairly balanced membership; and the evaluation of conflicts of interest for certain members. Section 5(b)(2) of the FACA requires “* * * the membership of the advisory committee to be fairly balanced in terms of the points of view represented and the functions to be performed by the advisory committee.”

Forward Nominations for Membership: A biography describing professional background and qualifications should be submitted either by e-mail: RFPB@osd.mil, or by (703) 692-1062 (Facsimile—FAX) to the Reserve Forces Policy Board's Designated Federal Officer No Later Than The Close Of Business Wednesday, April 13, 2011. The Designated Federal Officer's contact information can be obtained from the GSA's FACA Database— https://www.fido.gov/facadatabase/public.asp.

Note: All nominees will be subject to Congressional Lobbyist Disclosure. Individuals appointed by the Secretary of Defense to serve on the Reserve Forces Policy Board will be appointed as experts and consultants under the authority of 5 U.S.C. 3109, serve as special government employees and be required to comply with all Department of Defense ethics requirements, to include the filing of confidential financial disclosure statements. In addition, those appointed will serve without compensation except for travel and per diem in conjunction with official Board business.

FOR FURTHER INFORMATION CONTACT: Lt Col Julie A. Small, Designated Federal Officer, (703) 697-4486 (Voice), (703) 693-5371 (Facsimile), RFPB@osd.mil. Mailing address is Reserve Forces Policy Board, 7300 Defense Pentagon, Washington, DC 20301-7300. Web site: http://ra.defense.gov/rfpb/.

Dated: March 30, 2011.
Morgan F. Park,
Alternate OSD Federal Register Liaison Officer, Department of Defense.

[FR Doc. 2011-8013 Filed 4-4-11; 8:45 am]

BILLING CODE 5001-06-P